ENVIRONMENTAL PROTECTION AGENCY

[FRL-6716-6]

Proposed Prospective Purchaser Agreement Pursuant to the Comprehensive Environmental Response, Compensation, and Liability Act for the Vacant Lot Site; North Chicago, Illinois

AGENCY: Environmental Protection Agency (“EPA”).

ACTION: Notice; request for public comment on proposed prospective purchaser agreement.

SUMMARY: In accordance with the Comprehensive Environmental Response, Compensation, and Liability Act, as amended (“CERCLA”), 42 U.S.C. 9601 et seq., and the authority of the Attorney General of the United States to compromise and settle claims of the United States as delegated, notice is hereby given of a proposed prospective purchaser agreement concerning the Vacant Lot site at the northeast corner of Commonwealth Avenue and Martin Luther King Drive, North Chicago, Illinois. The agreement, in conjunction with an agreement with the present property owners, requires that the purchase price of $35,000 be paid to the Hazardous Substance Superfund. The agreement includes a covenant not to sue BREMS Realty, L.L.C., which would purchase the property, and EMCO Chemical Distributors, Inc., which would lease the property, under sections 106 and 107(a) of CERCLA, 42 U.S.C. 9606 and 9607(a), and contribution protection for BREMS Realty, L.L.C. and EMCO Chemical Distributors, Inc. under section 113(f)(2) of CERCLA, 42 U.S.C. 9613(f)(2).

For thirty days following the date of publication of this notice, the EPA will receive written comments relating to this proposed agreement. EPA will consider all comments received and may decide not to enter this proposed agreement if comments disclose facts or considerations which indicate that the proposed agreement is inappropriate, improper or inadequate.

DATES: Comments on the proposed agreement must be received by EPA on or before July 19, 2000.

ADDRESSES: Comments should be addressed to the Docket Clerk, U.S. Environmental Protection Agency, Region 5, 77 West Jackson Boulevard, Chicago, Illinois, 60604-3590, and should refer to: In the Matter of Vacant Lot Site, North Chicago, Illinois, U.S. EPA Docket No. V-W-00C-93.

FOR FURTHER INFORMATION CONTACT: Thomas J. Krueger, U.S. Environmental Protection Agency, Office of Regional Counsel, C-14J, 77 West Jackson Boulevard, Chicago, Illinois 60604-3590, (312) 886-0562.

A copy of the proposed administrative settlement agreement may be obtained in person or by mail from the EPA's Region 5 Office of Regional Counsel, 77 West Jackson Boulevard, Chicago, Illinois 60604-3590. Additional background information relating to the settlement is available for review at the EPA's Region 5 Office of Regional Counsel.

Authority: The Comprehensive Environmental Response, Compensation, and Liability Act, as amended, 42 U.S.C. 9601-9675.

Bruce Sypniewski,
Acting Director, Superfund Division, Region 5.

[FR Doc. 00-15395 Filed 6-16-00; 8:45 am]

BILLING CODE 6560-50-M